DEPARTMENT OF HOMELAND SECURITY

Coast Guard

46 CFR Parts 2, 24, 30, 70, 90, 91, and 188

[Docket No. USCG-2011-0363]

RIN 1625-AC03 (Formerly RIN 1625-AB71)

Seagoing Barges

Correction

In rule document 2013-20351 appearing on pages 53285-53336 in the issue of Thursday, August 29, 2013, make the following corrections:

§ 24.05-1 [Corrected]

(1) On page 53304, above footnote “1” insert the heading “Footnotes:”.

§ 30.01-5 [Corrected]

(2) On page 53312, in footnote “9” in the first line, “. . .” should read “* * *”.

§ 188.05-1 [Corrected]

(3) Beginning on page 53328, Table 188.05-1(a) is corrected to read as set forth below:

Table 188.05-1(a)
Method of propulsion, qualified by size or other limitation ¹ | Vessels inspected and certificated under Subchapter D—Tank Vessels ² | Vessels inspected and certificated under Subchapter H—Passenger Vessels 2 3 4 5 or Subchapter K or T—Small Passenger Vessels 2 3 4 | Vessels inspected and certificated under Subchapter I—Cargo and Miscellaneous Vessels 2 5 | Vessels subject to the provisions of Subchapter C—Uninspected Vessels 2 3 6 7 8 | Vessels subject to the provisions of Subchapter U—Oceanographic Vessels 2 3 6 7 9 | Vessels subject to the provisions of Subchapter O—Certain Bulk and Dangerous Cargoes ¹⁰
Column 1 | Column 2 | Column 3 | Column 4 | Column 5 | Column 6 | Column 7
(1) Motor, all vessels except seagoing motor vessels ≥300 gross tons | All vessels carrying combustible or flammable liquid cargo in bulk.⁵ | (i) All vessels carrying more than 12 passengers on an international voyage, except recreational vessels not engaged in trade.⁷ | All vessels >15 gross tons carrying freight-for-hire, except those covered by columns 2 and 3. All vessels carrying dangerous cargoes, when required by 46 CFR part 98. | All vessels not covered by columns 2, 3, 4, and 6. | None. | All vessels carrying cargoes in bulk that are listed in part 153, table 1, or part 154, table 4, or unlisted cargoes that would otherwise be subject to these parts.¹²
|  | (ii) All vessels <100 gross tons that—
|  | (A) Carry more than 6 passengers-for-hire whether chartered or not, or
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(2) Motor, seagoing motor vessels ≥300 gross tons | All vessels carrying combustible or flammable liquid cargo in bulk.⁵ | (i) All vessels carrying more than 12 passengers on an international voyage, except recreational vessels not engaged in trade.⁷ | All vessels, including recreational vessels, not engaged in trade. This does not include vessels covered by columns 2 and 3, and vessels engaged in the fishing industry. | All vessels not covered by columns 2, 3, 4, 6, and 7. | All vessels engaged in oceanographic research. | All vessels carrying cargoes in bulk that are listed in part 153, table 1, or part 154, table 4, or unlisted cargoes that would otherwise be subject to these parts.¹²
|  | (ii) All ferries <100 gross tons carrying more than 6 passengers and all ferries ≥100 gross tons that carry at least 1 passenger.
|  | (iii) These regulations do not apply to—
|  | (A) Recreational vessels not engaged in trade.
|  | (B) Documented cargo or tank vessels issued a permit to carry 16 or fewer persons in addition to the crew.
|  | (C) Fishing vessels not engaged in ocean or coastwise service may carry persons on the legitimate business of the vessel ⁶ in addition to the crew, as restricted by the definition of passenger.⁷
(3) Non-self-propelled vessels <100 gross tons | All vessels carrying combustible or flammable liquid cargo in bulk.⁵ | (i) All vessels that— (A) Carry more than 6 passengers-for-hire whether chartered or not, or (B) Carry more than 6 passengers when chartered with the crew provided, or (C) Carry more than 12 passengers when chartered with no crew provided, or (D) Carry at least 1 passenger-for-hire and is a submersible vessel.⁷ (E) Carry more than 12 passengers on an international voyage. (F) Carry more than 6 passengers and are ferries. | All manned barges except those covered by columns 2 and 3. | All barges carrying passengers or passengers-for-hire except those covered by column 3. | None. | All tank barges carrying cargoes listed in Table 151.05 of this chapter or unlisted cargoes that would otherwise be subject to part 151.1 11 12
(4) Non-self-propelled vessels ≥100 gross tons | All vessels carrying combustible or flammable liquid cargo in bulk.⁵ | (iii) All vessels that— (A) Carry more than 12 passengers-for-hire whether chartered or not, or (B) Carry more than 12 passengers when chartered with the crew provided, or (C) Carry more than 12 passengers when chartered with no crew provided, or (D) Carry at least 1 passenger-for-hire and is a submersible vessel.⁷ (E) Carry more than 12 passengers on an international voyage. (F) Carry at least 1 passenger and are ferries. | All seagoing barges except a seagoing barge that is covered by column 2 or 3, or that is unmanned for the purposes of operating or navigating the barge, and that carries neither a hazardous material as cargo nor a flammable or combustible liquid, including oil, in bulk quantities of 250 barrels or more. | All barges carrying passengers or passengers-for-hire except those covered by columns 3 and 6. | All seagoing barges engaged in oceanographic research. | All tank barges carrying cargoes listed in Table 151.05 of this chapter or unlisted cargoes that would otherwise be subject to part 151.1 11 12
(5) Sail ¹³ vessels ≤700 gross tons | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or (C) Carry more than 12 passengers when chartered with no crew provided, or (D) Carry at least 1 passenger-for-hire and are submersible vessels.⁷ (E) Carry more than 6 passengers and are ferries. (iii) All vessels ≥100 gross tons that— (A) Carry more than 12 passengers-for-hire whether chartered or not, or (B) Carry more than 12 passengers when chartered with the crew provided, or (C) Carry more than 12 passengers when chartered with no crew provided, or (D) Carry at least 1 passenger-for-hire and are submersible vessels.⁷ (E) Carry at least 1 passenger and are ferries. (iv) These regulations do not apply to— (A) Recreational vehicles not engaged in trade. (B) Documented cargo or tank vessels issued a permit to carry 16 or fewer persons in addition to the crew. (C) Fishing vessels, not engaged in ocean or coastwise service. Such vessels may carry persons on the legitimate business of the vessel ⁶ in addition to the crew, as restricted by the definition of passenger.⁷ | All vessels carrying dangerous cargoes, when required by 46 CFR part 98. | All vessels not covered by columns 2, 3, 4, and 6. | None. | All vessels carrying cargoes in bulk that are listed in part 153, table 1, or part 154, table 4, or unlisted cargoes that would otherwise be subject to these parts.¹²
(6) Sail ¹³ vessels >700 gross tons | All vessels carrying combustible or flammable liquid cargo in bulk.⁵ | (i) All vessels carrying passengers or passengers-for-hire, except recreational vessels.⁷ (ii) All ferries that carry at least 1 passenger. | All vessels carrying dangerous cargoes, when required by 46 CFR part 98. | None. | None. | All vessels carrying cargoes in bulk that are listed in part 153, table 1, or part 154, table 4, or unlisted cargoes that would
|  |  |  |  |  | otherwise be subject to these parts.¹²
(7) Steam, vessels ≤19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or | All tugboats and towboats. All vessels carrying dangerous cargoes, when required by 46 CFR part 98. | All vessels not covered by columns 2, 3, 4, and 6. | None. | All vessels carrying cargoes in bulk that are listed in part 153, table 1, or part 154, table 4, or unlisted cargoes that would otherwise be subject to these parts.¹²
|  | (B) Carry more than 6 passengers when chartered with the crew provided, or
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vessels not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
(8) Steam, vessels >19.8 meters (65 feet) in length | All vessels carrying combustible or flammable liquid cargo in bulk.⁵ | (i) All vessels carrying more than 12 passengers on an international voyage, except recreational vessels not engaged in trade.⁷ (ii) All vessels <100 gross tons that— (A) Carry more than 6 passengers-for-hire whether chartered or not, or (B) Carry more than 6 passengers when chartered with the crew provided, or | All vessels not covered by columns 2, 3, 6, and 7. | None. | All vessels engaged in oceanographic research. | All vessels carrying cargoes in bulk that are listed in part 153, table 1, or part 154, table 4, or unlisted cargoes that would otherwise be subject to these parts.¹²
|  | (C) Carry more than 12 passengers when chartered with no crew provided, or
|  | (D) Carry at least 1 passenger-for-hire and are submersible vessels.⁷
|  | (E) Carry more than 6 passengers and are ferries.
|  | (iii) All vessels ≥100 gross tons that—
|  | (A) Carry more than 12 passengers-for-hire whether chartered or not, or
|  | (B) Carry more than 12 passengers when chartered with the crew provided, or
|  | (C) Carry more than 12 passengers when chartered with no crew provided, or
|  | (D) Carry at least 1 passenger-for-hire and are submersible vessels.⁷
|  | (E) Carry at least 1 passenger and are ferries.
|  | (iv) These regulations do not apply to—
|  | (A) Recreational vehicles not engaged in trade.
|  | (B) Documented cargo or tank vessels issued a permit to carry 16 or fewer persons in addition to the crew.
|  | (C) Fishing vessels not engaged in ocean or coastwise service. Such vessels may carry persons on the legitimate business of the vessel ⁶ in addition to the crew, as restricted by the definition of passenger.⁷
Key to symbols used in this table: ≤ means less than or equal to; > means greater than; < means less than; and ≥ means greater than or equal to.
Footnotes:
¹ Where length is used in this table, it means the length measured from end to end over the deck, excluding sheer. This expression means a straight line measurement of the overall length from the foremost part of the vessel to the aftermost part of the vessel, measured parallel to the centerline.
² Subchapters E (Load Lines), F (Marine Engineering), J (Electrical Engineering), N (Dangerous Cargoes), S (Subdivision and Stability), and W (Lifesaving Appliances and Arrangements) of this chapter may also be applicable under certain conditions. The provisions of 49 CFR parts 171 through 179 apply whenever packaged hazardous materials are on board vessels (including motorboats), except when specifically exempted by law.
³ Public nautical schoolships, other than vessels of the Navy and Coast Guard, must meet the requirements of part 167 of subchapter R (Nautical Schools) of this chapter, Civilian nautical schoolships, as defined by 46 U.S.C. 1331, must meet the requirements of subchapter H (Passenger Vessels) and part 168 of subchapter R (Nautical Schools) of this chapter.
⁴ Subchapter H (Passenger Vessels) of this chapter covers only those vessels of 100 gross tons or more, subchapter T (Small Passenger Vessels) of this chapter covers only those vessels of less than 100 gross tons, and subchapter K (Small Passenger Vessels) of this chapter covers only those vessels less than 100 gross tons carrying more than 150 passengers or overnight accommodations for more than 49 passengers.
⁵ Vessels covered by subchapter H (Passenger Vessels) or I (Cargo and Miscellaneous Vessels) of this chapter, where the principal purpose or use of the vessel is not for the carriage of liquid cargo, may be granted a permit to carry a limited amount of flammable or combustible liquid cargo in bulk. The portion of the vessel used for the carriage of the flammable or combustible liquid cargo must meet the requirements of subchapter D (Tank Vessels) in addition to the requirements of subchapter H (Passenger Vessels) or I (Cargo and Miscellaneous Vessels) of this chapter.
⁶ Any vessel on an international voyage is subject to the requirements of the International Convention for Safety of Life at Sea, 1974 (SOLAS).
⁷ The terms “passenger(s)” and “passenger(s)-for-hire” are as defined in 46 U.S.C. 2101(21)(21a). On oceanographic vessels, scientific personnel onboard shall not be deemed to be passengers nor seamen, but for calculations of lifesaving equipment, etc., must be counted as persons.
⁸ Boilers and machinery are subject to examination on vessels over 40 feet in length.
⁹ Under 46 U.S.C. 441 an oceanographic research vessel “* * * being employed exclusively in instruction in oceanography or limnology, or both, or exclusively in oceanographic research, * * *. Under 46 U.S.C. 443, “an oceanographic research vessel shall not be deemed to be engaged in trade or commerce.” If or when an oceanographic vessel engages in trade or commerce, such vessel cannot operate under its certificate of inspection as an oceanographic vessel, but shall be inspected and certified for the service in which engaged, and the scientific personnel aboard then become persons employed in the business of the vessel.
¹⁰ Bulk dangerous cargoes are cargoes specified in table 151.01-10(b); in table 1 of part 153, and in table 4 of part 154 of this chapter.
¹¹ For manned tankbarges, see § 151.01-10(c) of this chapter.
¹² See § 151.01-15, 153.900(d), or 154.30 of this chapter as appropriate.
¹³ Sail vessel means a vessel with no auxiliary machinery on board. If the vessel has auxiliary machinery, refer to motor vessels.

[FR Doc. C1-2013-20351 Filed 9-12-13; 8:45 am]

BILLING CODE 1505-01-D